DEPARTMENT OF THE INTERIOR

National Park Service

60 Day Notice of Intention To Request for Clearance of Information Collection, Special Park Use Application Forms, Opportunity for Public Comment

AGENCY: National Park Service, Department of the Interior.

ACTION: Notice and request for comments.

SUMMARY: Under the provisions of the Paperwork Reduction Act of 1995 (Pub. L. 104-14, 44 U.S.C. 3507) and 5 CFR, part 1320 Reporting and Record Keeping Requirements, the National Park Service (NPS) invites public comment on a request for approval for the information collection requirements. These information collections are associated with permits implementing provisions of the agency regulations pertaining to the use of public lands. The uses considered under these information collection applications generally include those which regulate or limit those activities not available to the public at large, such as special events, commercial filming, and grazing in parks where such activity is authorized by law. The OMB control number 1024-0026 has been temporarily assigned to the three draft application forms included in this request for comments. These forms are intended to act in the capacity of gathering sufficient information to enable park managers to be able to approve or deny the requested uses of public lands and, if approved, to provide sufficient conditions to protect park lands from impairment or derogation of the resources, values or purposes for which the park was created.

DATES: Public comments will be accepted on or before May 2, 2000.

ADDRESSES: Send comments to: Dick Young, C/O Colonial National Historic Park P.O. Box 210 Yorktown, VA 23690. All responses to this notice will be summarized and included in the request for OMB final approval. All comments will become a matter of public record. Copies of the above mentioned draft forms may be obtained from the Internet at http://www.nps.gov/refdesk/DOrders/index.htm under “draft guidance documents.”

FOR FURTHER INFORMATION CONTACT: Dick Young at (757) 898-7846.

SUPPLEMENTARY INFORMATION: Specific Comments Sought: NPS seeks comments, in particular, on the necessity for this information collection, the accuracy of our burden estimates, the clarity of the information to be collected and alternative methods of collection to minimize burden and improve service to the public.

Dennis Burnett,
Acting Chief, Ranger Activities Division.

[FR Doc. 00-5083 Filed 3-2-00; 8:45 am]

BILLING CODE 4310-70-P